DEPARTMENT OF EDUCATION

[Docket ID ED-2016-FSA-0011]

Privacy Act of 1974; System of Records

AGENCY: Federal Student Aid, Department of Education.

ACTION: Notice of a modified system of records.

SUMMARY: In accordance with the Privacy Act of 1974, as amended (Privacy Act), the Chief Operating Officer for Federal Student Aid (FSA) of the U.S. Department of Education (Department) publishes this notice to modify the system of records entitled “Health Education Assistance Loan (HEAL) Program” (18-11-20), last published in the Federal Register on January 23, 2017.

Under the Consolidated Appropriations Act, 2014 and the Public Health Service Act, the authority to administer the HEAL program, including servicing, collecting, and enforcing any loans made under the program that remain outstanding, was transferred from the Secretary of Health and Human Services to the Secretary of Education on July 1, 2014, the date of the enactment of the Consolidated Appropriations Act, 2014.

The HEAL program system of records covers records for all activities that the Department carries out with regard to servicing, collecting, and enforcing Federal student loans made under the Public Health Service Act that remain outstanding. The HEAL program system also contains records of transactions performed by the Department to carry out the purposes of this system of records.

DATES: Submit your comments on this modified system of records notice on or before September 13, 2018.

In general, this modified system of records will become applicable upon publication in the Federal Register on August 14, 2018, unless the modified system of records notice needs to be changed as a result of public comment. New and significantly modified routine uses (1)(m), (2), (4), (6), (10), (11), (13), (14), (15), (16), and (17) in the paragraph entitled “ROUTINE USES OF RECORDS MAINTAINED IN THE SYSTEM, INCLUDING CATEGORIES OF USERS AND PURPOSES OF SUCH USES” will become applicable on the expiration of the 30-day period of public comment on September 13, 2018, unless the modified system of records notice needs to be changed as a result of public comment. The Department will publish any significant changes to the modified system of records notice that result from public comment.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about this modified system of records, address them to: Director, Systems Integration Division, Systems Operations and Aid Delivery Management Services, Business Operations, Federal Student Aid, U.S. Department of Education, 830 First Street NE, Union Center Plaza (UCP), Room 44F1, Washington, DC 20202-5454.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, we will supply an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Valerie Sherrer, Director, Systems Integration Division, Systems Operations and Aid Delivery Management Services, Business Operations, Federal Student Aid, U.S. Department of Education, UCP, 830 First Street NE, Room 44F1, Washington, DC 20202-5454. Telephone number: (202) 377-3547.

If you use a telecommunications device for the deaf (TDD) or a text telephone (TTY), you may call the Federal Relay Service (FRS), toll free, at 1-800-877-8339.

SUPPLEMENTARY INFORMATION:

Introduction

Under division H, title V, section 525 of the Consolidated Appropriations Act, 2014 (Pub. L. 113-76) and title VII, part A, subpart I of the Public Health Service Act, the authority to administer the HEAL program, including servicing, collecting, and enforcing any loans made under the program that remain outstanding, was transferred from the Secretary of Health and Human Services to the Secretary of Education on July 1, 2014, the date of the enactment of the Consolidated Appropriations Act, 2014.

The HEAL program system of records covers records for all activities that the Department carries out with regard to servicing, collecting, and enforcing Federal student loans made under title VII, part A, subpart I of the Public Health Service Act that remain outstanding. The HEAL program system also contains records of transactions performed by the Department to carry out the purposes of this system of records.

The Department published a notice of a modified system of records in the Federal Register on January 23, 2017 (82 FR 7807-7812) proposing to revise a programmatic routine use and to include a Defaulted Borrowers website as a location where the Department may publish the names of defaulted HEAL program borrowers. In addition, the Department added or made conforming changes both to the programmatic routine uses to make them consistent with the routine uses that the Department uses in its other system of records notice for the servicing and collection of Federal student aid and to the standard routine uses to make them consistent with those used in most other Department systems of records notices.

This notice makes a number of needed updates and additions to this previous version of the system of records notice, which include: Revising the paragraph on the system's security classification to indicate that this system is not classified; updating the paragraph on system location to reference the current location of the system; revising programmatic purpose (13), and removing former programmatic purpose (15); and modifying the information regarding disclosures to consumer reporting agencies to specify which information will be disclosed.

The section entitled “RECORD SOURCE CATEGORIES” has been updated to include information obtained from other Federal agencies and from other persons or entities to which records may be disclosed as described in the routine uses set forth in the system of records notice.

This notice updates the section entitled “POLICIES AND PRACTICES FOR RETENTION AND DISPOSAL OF RECORDS” to reflect the current Department records retention and disposition schedule covering records in this system.

This notice is modifying the safeguards to remove reference to implementation guidance when this system of records was under the Department of Health and Human Services (HHS) at the previous system location.

This notice is also revising the record access, contesting, and notification procedures to explicitly indicate which necessary particulars individuals are required to provide to the system manager.

This notice also removes former programmatic routine use 1(o), routine use (3) “Disclosure for Use by Other Law Enforcement Agencies,” and routine use (16) “Disclosures to Third Parties through Computer Matching Programs;” adds citations to authorizing statutes in routine uses 1(i) and 13; revises routine uses 1(m) to remove language referencing disclosures to update information or correct errors contained in Department records, (2) to remove guaranty agencies and their authorized representatives as entities to which the Department may disclose records, (4) to insert the word “person” in place of the word “individual”, (6) to standardize it with other language used by the Department to permit disclosures of records from its systems of records where they are relevant and necessary to employee grievances, complaints, or disciplinary actions, (10) to remove the reference to “Privacy Act safeguards as required under 5 U.S.C. 552(m)” to now require that all contractors agree to maintain safeguards to protect the security and confidentiality of the records in the system, (11) to remove the requirement for a researcher to maintain “Privacy Act safeguards” with respect to the disclosed records and instead adding a requirement that a researcher must maintain safeguards to protect the security and confidentiality of the disclosed records, (13) to include reference to the Congressional Budget Office as an entity to which the Department may disclose records to, (14) to replace references of “compromise” with references to “breach” to be compliant OMB's requirements as set forth in OMB M-17-12, (16) to allow disclosures to subcontractors of Federal or State agencies and their agents and to the judicial or legislative branches of the United States, and (17) to remove language that specified that the Department may elect to reestablish a Defaulted Borrowers website, or a similar website; adds routine use (15) “Disclosure in Assisting another Agency in Responding to a Breach of Data.”

Pursuant to the requirements of Office of Management and Budget Circular No. A-108, the Department has also added a section entitled “HISTORY.”

Accessible Format: Individuals with disabilities can obtain this document in an accessible format (e.g., Braille, large print, audiotape, or compact disc) on request to the person listed under FOR FURTHER INFORMATION CONTACT.

Electronic Access to This Document:The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: August 9, 2018.
James F. Manning,
Acting Chief Operating Officer, Federal Student Aid.

For the reasons discussed in the preamble, the Chief Operating Officer of Federal Student Aid (FSA), U.S. Department of Education (Department or ED), publishes a notice of a modified system of records to read as follows:

SYSTEM NAME AND NUMBER:

Health Education Assistance Loan (HEAL) Program (18-11-20).

SECURITY CLASSIFICATION:

Unclassified.

SYSTEM LOCATION:

Dell Perot Systems, 2300 West Plano Parkway, Plano, TX 75075-8247. (This is the location for the HEAL program Virtual Data Center (VDC)).

SYSTEM MANAGER(S):

Director, Systems Integration Division, Systems Operations and Aid Delivery Management Services, Business Operations, Federal Student Aid, U.S. Department of Education, 830 First Street NE, Room 44F1, UCP, Washington, DC 20202-5454. Telephone: (202) 377-3547.

AUTHORITY FOR MAINTENANCE OF THE SYSTEM:

The authority for maintenance of the system includes sections 701 and 702 of the Public Health Service Act, as amended (PHS Act) (42 U.S.C. 292 and 292a), which authorize the establishment of a Federal program of student loan insurance; section 715 of the PHS Act (42 U.S.C. 292n), which directs the Secretary of Education to require institutions to provide information for each student who has a loan; section 709(c) of the PHS Act (42 U.S.C. 292h(c)), which authorizes disclosure and publication of HEAL defaulters; the Debt Collection Improvement Act (31 U.S.C. 3701 and 3711-3720E); and the Consolidated Appropriations Act, 2014, Div. H, title V, section 525 of Public Law 113-76, which transferred the authority to administer the HEAL program from the Secretary of Health and Human Services (HHS) to the Secretary of Education.

PURPOSE(S) OF THE SYSTEM:

The information maintained in this system of records is used for the following purposes:

(1) To verify the identity of an individual;

(2) To determine program benefits;

(3) To enforce the conditions or terms of a loan;

(4) To service, collect, assign, adjust, transfer, refer, or discharge a loan;

(5) To counsel a borrower in repayment efforts;

(6) To investigate possible fraud or abuse or verify compliance with any applicable statutory, regulatory, or legally binding requirement;

(7) To locate a delinquent or defaulted borrower or an individual obligated to repay a loan;

(8) To prepare a debt for litigation, provide support services for litigation on a debt, litigate a debt, or audit the results of litigation on a debt;

(9) To prepare for, conduct, enforce, or assist in the conduct or enforcement of a Medicare Exclusion of the individual in default on a HEAL loan;

(10) To ensure that program requirements are met by HEAL program participants;

(11) To verify whether a debt qualifies for discharge, cancellation, or forgiveness;

(12) To conduct credit checks or respond to inquiries or disputes arising from information on the debt already furnished to a credit-reporting agency;

(13) To investigate complaints;

(14) To refund credit balances to the individual or loan holder;

(15) To report to the Internal Revenue Service (IRS) information required by law to be reported, including, but not limited to, reports required by 26 U.S.C. 6050P and 6050S;

(16) To compile and generate managerial and statistical reports; and

(17) To carry out the statutory requirement to compile and publish a list of the HEAL program borrowers who are in default.

CATEGORIES OF INDIVIDUALS COVERED BY THE SYSTEM:

The HEAL program system covers recipients of HEAL program loans that remain outstanding. This system also contains records on HEAL program loans that are paid in full.

CATEGORIES OF RECORDS IN THE SYSTEM:

Each HEAL recipient record contains the borrower's name, contact information (such as email address and telephone number), area of practice, Social Security number (SSN) or other identifying number, birth date, demographic background, educational status, loan location and status, and financial information about the individual for whom the record is maintained. Each loan record contains lender and school identification information.

RECORD SOURCE CATEGORIES:

Record source categories include individual loan recipients, HEAL schools, lenders, holders of HEAL loans and their agents, HHS, and other Federal agencies. Information in this system also may be obtained from other persons or entities to which records may be disclosed as described in the routine uses set forth below.

ROUTINE USES OF RECORDS MAINTAINED IN THE SYSTEM, INCLUDING CATEGORIES OF USERS AND PURPOSES OF SUCH USES:

The Department may disclose information contained in a record in this system of records under the routine uses listed in this system of records without the consent of the individual if the disclosure is compatible with the purposes for which the information in the record was collected. These disclosures may be made on a case-by-case basis, or, if the Department has complied with the computer matching requirements of the Privacy Act of 1974, as amended (Privacy Act), under a computer matching agreement. Return information that the Department obtains from the Internal Revenue Service (IRS) (i.e., taxpayer mailing address) under the authority in 26 U.S.C. 6103(m)(2) or (m)(4) may be disclosed only as authorized by 26 U.S.C. 6103.

(1) Program Disclosures. The Department may disclose records for the following program purposes:

(a) To verify the identity of the individual whom records indicate has received the loan, disclosures may be made to HEAL program participants, and their authorized representatives; Federal, State, or local agencies, and their authorized representatives; private parties, such as relatives and business and personal associates; educational and financial institutions; present and former employers; collection agencies; creditors; consumer reporting agencies; adjudicative bodies; and the individual whom the records identify as the party obligated to repay the debt;

(b) To determine program benefits, disclosures may be made to HEAL program participants, and their authorized representatives; Federal, State, or local agencies, and their authorized representatives; private parties, such as relatives and business and personal associates; educational and financial institutions; present and former employers; creditors; consumer reporting agencies; and adjudicative bodies;

(c) To enforce the conditions or terms of the loan, disclosures may be made to HEAL program participants; educational and financial institutions, and their authorized representatives; Federal, State, or local agencies, and their authorized representatives; private parties, such as relatives and business and personal associates; present and former employers; creditors; consumer reporting agencies; and adjudicative bodies;

(d) To permit servicing, collecting, assigning, adjusting, transferring, referring, or discharging a loan, disclosures may be made to HEAL program participants; educational institutions, or financial institutions that made, held, serviced, or have been assigned the debt, and their authorized representatives; a party identified by the debtor as willing to advance funds to repay the debt; Federal, State, or local agencies, and their authorized representatives; private parties, such as relatives and business and personal associates; present and former employers; creditors; consumer reporting agencies; and adjudicative bodies;

(e) To counsel a borrower in repayment efforts, disclosures may be made to HEAL program participants; educational and financial institutions, and their authorized representatives; and Federal, State, or local agencies, and their authorized representatives;

(f) To investigate possible fraud or abuse or verify compliance with any applicable statutory, regulatory, or legally binding requirement, disclosures may be made to HEAL program participants; educational and financial institutions, and their authorized representatives; Federal, State, or local agencies, and their authorized representatives; private parties, such as relatives and business and personal associates; present and former employers; creditors; consumer reporting agencies; and adjudicative bodies;

(g) To locate a delinquent or defaulted borrower, or an individual obligated to repay a loan, disclosures may be made to HEAL program participants; educational and financial institutions, and their authorized representatives; Federal, State, or local agencies, and their authorized representatives; private parties, such as relatives and business and personal associates; present and former employers; creditors; consumer reporting agencies; and adjudicative bodies;

(h) To prepare a debt for litigation, to provide support services for litigation on a debt, to litigate a debt, or to audit the results of litigation on a debt, disclosures may be made to HEAL program participants, and their authorized representatives; Federal, State, or local agencies, and their authorized representatives; and adjudicative bodies;

(i) To prepare for, conduct, enforce, or assist in the conduct or enforcement of a Medicare exclusion action in accordance with 42 U.S.C. 1320a-7(b)(14), disclosures may be made to HEAL program participants; educational or financial institutions, and their authorized representatives; Federal, State, or local agencies, and their authorized representatives; and adjudicative bodies;

(j) To ensure that HEAL program requirements are met by HEAL program participants, disclosures may be made to HEAL program participants; educational or financial institutions, and their authorized representatives; auditors engaged to conduct an audit of a HEAL program participant or of an educational or financial institution; Federal, State, or local agencies, and their authorized representatives; accrediting agencies; and adjudicative bodies;

(k) To verify whether a debt qualifies for discharge, forgiveness, or cancellation, disclosures may be made to HEAL program participants; educational and financial institutions, and their authorized representatives; Federal, State, or local agencies, and their authorized representatives; private parties, such as relatives and business and personal associates; present and former employers; creditors; consumer reporting agencies; and adjudicative bodies;

(l) To conduct credit checks or to respond to inquiries or disputes arising from information on the debt already furnished to a credit reporting agency, disclosures may be made to credit reporting agencies; HEAL program participants; educational and financial institutions, and their authorized representatives; Federal, State, or local agencies, and their authorized representatives; private parties, such as relatives and business and personal associates; present and former employers; creditors; and adjudicative bodies;

(m) To investigate complaints, disclosures may be made to HEAL program participants; educational and financial institutions, and their authorized representatives; Federal, State, or local agencies, and their authorized representatives; private parties, such as relatives; present and former employers; creditors; credit reporting agencies; and adjudicative bodies;

(n) To refund credit balances that are processed through the Department's systems, as well as the U.S. Department of the Treasury's (Treasury's) payment applications, to the individual or loan holder, disclosures may be made to HEAL program participants; educational and financial institutions, and their authorized representatives; Federal, State, or local agencies, and their authorized representatives; private parties, such as relatives and business and personal associates; present and former employers; and creditors;

(o) To report information required by law to be reported, including, but not limited to, reports required by 26 U.S.C. 6050P and 6050S, disclosures may be made to the IRS; and

(p) To allow the Department to make disclosures to governmental entities at the Federal, State, local, or Tribal levels regarding the practices of Department contractors who have been provided with access to the HEAL program system with regards to all aspects of loans made under the HEAL program, in order to permit these governmental entities to verify the contractors' compliance with debt collection, financial, and other applicable statutory, regulatory, or local requirements. Before making a disclosure to these Federal, State, local, or Tribal governmental entities, the Department will require them to maintain safeguards to protect the security and confidentiality of the disclosed records.

(2) Feasibility Study Disclosure. The Department may disclose information from this system of records to other Federal agencies to determine whether pilot matching programs should be conducted by the Department for purposes such as to locate a delinquent or defaulted debtor or to verify compliance with program regulations.

(3) Enforcement Disclosure. In the event that information in this system of records indicates, either alone or in connection with other information, a violation or potential violation of any applicable statutory, regulatory, or legally binding requirement, the Department may disclose the relevant records to an entity charged with the responsibility for investigating or enforcing those violations or potential violations.

(4) Litigation and Alternative Dispute Resolution (ADR) Disclosure.

(a) Introduction. In the event that one of the parties listed in sub-paragraphs (i) through (v) is involved in judicial or administrative litigation or ADR, or has an interest in such litigation or ADR, the Department may disclose certain records to the parties described in paragraphs (b), (c), and (d) of this routine use under the conditions specified in those paragraphs:

(i) The Department or any of its components;

(ii) Any Department employee in his or her official capacity;

(iii) Any Department employee in his or her individual capacity where the Department of Justice (DOJ) has been requested to or agrees to provide or arrange for representation for the employee;

(iv) Any Department employee in his or her individual capacity where the Department requests representation for or has agreed to represent the employee; and

(v) The United States, where the Department determines that the litigation is likely to affect the Department or any of its components.

(b) Disclosure to the DOJ. If the Department determines that disclosure of certain records to the DOJ is relevant and necessary to the judicial or administrative litigation or ADR, the Department may disclose those records as a routine use to the DOJ.

(c) Adjudicative Disclosure. If the Department determines that disclosure of certain records to an adjudicative body before which the Department is authorized to appear or to a person or an entity designated by the Department or otherwise empowered to resolve or mediate disputes is relevant and necessary to the judicial or administrative litigation or ADR, the Department may disclose those records as a routine use to the adjudicative body, person, or entity.

(d) Disclosure to Parties, Counsel, Representatives, and Witnesses. If the Department determines that disclosure of certain records to a party, counsel, representative, or witness is relevant and necessary to the judicial or administrative litigation or ADR, the Department may disclose those records as a routine use to the party, counsel, representative, or witness.

(5) Employment, Benefit, and Contracting Disclosure.

(a) For Decisions by the Department. The Department may disclose a record to a Federal, State, or local agency maintaining civil, criminal, or other relevant enforcement or other pertinent records, or to another public authority or professional organization, if necessary to obtain information relevant to a Department decision concerning the hiring or retention of an employee or other personnel action, the issuance of a security clearance, the letting of a contract, or the issuance of a license, grant, or other benefit.

(b) For Decisions by Other Public Agencies and Professional Organizations. The Department may disclose a record to a Federal, State, local, or other public authority or professional organization, in connection with the hiring or retention of an employee or other personnel action, the issuance of a security clearance, the reporting of an investigation of an employee, the letting of a contract, or the issuance of a license, grant, or other benefit, to the extent that the record is relevant and necessary to the receiving entity's decision on the matter.

(6) Employee Grievance, Complaint, or Conduct Disclosure. If a record is relevant and necessary to an employee grievance, complaint, or disciplinary action involving a present or former employee of the Department, the Department may disclose a record in this system of records in the course of investigation, fact-finding, or adjudication, to any party to the grievance, complaint or action; to the party's counsel or representative; to a witness; to a designated fact-finder, mediator, or other person designated to resolve issues or decide the matter.

(7) Labor Organization Disclosure. The Department may disclose a record from this system of records to an arbitrator to resolve disputes under a negotiated grievance procedure or to officials of a labor organization recognized under 5 U.S.C. chapter 71 when relevant and necessary to their duties of exclusive representation.

(8) Freedom of Information Act (FOIA) and Privacy Act Advice Disclosure. The Department may disclose records to the DOJ or to the Office of Management and Budget (OMB) if the Department determines that disclosure is desirable or necessary in determining whether particular records are required to be disclosed under the FOIA or the Privacy Act.

(9) Disclosure to the DOJ. The Department may disclose records to the DOJ, or the authorized representative of DOJ, to the extent necessary for obtaining DOJ advice on any matter relevant to an audit, inspection, or other inquiry related to the programs covered by this system.

(10) Contracting Disclosure. If the Department contracts with an entity for the purposes of performing any function that requires disclosure of records in this system to employees of the contractor, the Department may disclose the records to those employees. As part of such a contract, the Department will require the contractor to agree to establish and maintain safeguards to protect the security and confidentiality of the records in the system.

(11) Research Disclosure. The Department may disclose records to a researcher if an official of the Department determines that the individual or organization to which the disclosure would be made is qualified to carry out specific research related to functions or purposes of this system of records. The official may disclose records from this system of records to that researcher solely for the purpose of carrying out that research related to the functions or purposes of this system of records. The researcher shall be required to agree to maintain safeguards to protect the security and confidentiality of the disclosed records.

(12) Congressional Member Disclosure. The Department may disclose the records of an individual to a Member of Congress in response to an inquiry from the Member made at the written request of that individual whose records are being disclosed. The Member's right to the information is no greater than the right of the individual who requested the inquiry.

(13) Disclosure to OMB for Credit Reform Act (CRA) Support. The Department may disclose records to OMB or the Congressional Budget Office as necessary to fulfill CRA requirements in accordance with 2 U.S.C. 661b.

(14) Disclosure in the Course of Responding to a Breach of Data. The Department may disclose records to appropriate agencies, entities, and persons when (a) the Department suspects or has confirmed that there has been a breach of the system of records; (b) the Department has determined that as a result of the suspected or confirmed breach there is a risk of harm to individuals, the Department (including its information systems, programs, and operations), the Federal Government, or national security; and (c) the disclosure made to such agencies, entities, and persons is reasonably necessary to assist in connection with the Department's efforts to respond to the suspected or confirmed breach or to prevent, minimize, or remedy such harm.

(15) Disclosure in Assisting another Agency in Responding to a Breach of Data. The Department may disclose records from this system to another Federal agency or Federal entity, when the Department determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

(16) Disclosure of Information to Treasury. The Department may disclose records from this system to (a) a Federal or State agency, its employees, agents (including contractors or subcontractors of its agents), or contractors or subcontractors, (b) a fiscal or financial agent designated by the Treasury, including employees, agents, or contractors of such agent, or (c) the judicial or legislative branches of the United States, as defined in paragraphs (2) and (3), respectively, in 18 U.S.C. 202(e), for the purpose of identifying, preventing, or recouping improper payments to an applicant for, or recipient of, Federal funds, including funds disbursed by a State in a State-administered, federally funded program.

(17) Disclosure of Defaulted Debtors in Federal Register Publication. In accordance with the directive in 42 U.S.C. 292h(c), ED must publish in the Federal Register a list of borrowers who are in default on a HEAL loan. The Department will publish the names of the defaulted borrowers, last known city and State, area of practice, and amount of HEAL loan in default. The Department will publish the information about the borrower, as well as the names, in order to correctly identify the person in default and to provide relevant information to the authorized recipients of this information, such as State licensing boards and hospitals.

(18) Disclosure of Defaulted Debtors to Other Authorized Parties. In accordance with the directive in 42 U.S.C. 292h(c)(2), disclosure of borrowers who are in default on a HEAL loan may be made to relevant Federal agencies, schools, school associations, professional and specialty associations, State licensing boards, hospitals with which a HEAL loan defaulter may be associated, or other similar organizations.

DISCLOSURE TO CONSUMER REPORTING AGENCIES:

Disclosures pursuant to 5 U.S.C. 552a(b)(12) (as set forth in 31 U.S.C. 3711(e)): Disclosures may be made from this system to “consumer reporting agencies,” as defined in the Fair Credit Reporting Act (15 U.S.C. 1681a(f)) or the Debt Collection Improvement Act (31 U.S.C. 3701(a)(3)). Disclosures may only be made regarding a valid, overdue claim of the Department; such information is limited to: (1) The name, address, taxpayer identification number, and other information necessary to establish the identity of the individual responsible for the claim; (2) the amount, status, and history of the claim; and (3) the program under which the claim arose. The Department may disclose the information specified in this paragraph under 5 U.S.C. 552a(b)(12) and the procedures contained in 31 U.S.C. 3711(e). The purpose of these disclosures is to provide an incentive for debtors to repay delinquent Federal Government debts by making these debts part of their credit records.

POLICIES AND PRACTICES FOR STORAGE OF RECORDS:

Records are maintained in database servers, file folders, compact discs, digital versatile discs, and magnetic tapes.

POLICIES AND PRACTICES FOR RETRIEVAL OF RECORDS:

Records are retrieved by SSN or other identifying number.

POLICIES AND PRACTICES FOR RETENTION AND DISPOSAL OF RECORDS:

All records are retained and disposed of in accordance with Department records schedule, National Archives and Records Administration (NARA) disposition authority DAA-0441-2017-002 (“FSA Health Education Assistance Loan (HEAL) Program Online Processing System (HOPS)”). Records shall be destroyed seven years after cutoff. Cutoff is annually upon final payment or discharge of the loan.

ADMINISTRATIVE, TECHNICAL, AND PHYSICAL SAFEGUARDS:

All users of the HEAL System will have a unique user ID with a password. All physical access to the data housed within the VDC is controlled and monitored by security personnel who check each individual entering the building for his or her employee or visitor badge. The computer system employed by the Department offers a high degree of resistance to tampering and circumvention with firewalls, encryption, and password protection. This security system limits data access to Department and contract staff on a “need-to-know” basis, and controls individual users' ability to access and alter records within the system.

RECORD ACCESS PROCEDURES:

If you wish to gain access to your record in the system of records, provide the System Manager with necessary particulars such as your name, date of birth, SSN, and any other identifying information requested by the Department while processing the request to distinguish between individuals with the same name. Requests by an individual for access to a record must meet the requirements of the regulations in 34 CFR 5b.5, including proof of identity.

CONTESTING RECORD PROCEDURES:

If you wish to contest the content of your record in the system of records, provide the System Manager with necessary particulars such as your name, date of birth, SSN, and any other identifying information requested by the Department while processing the request to distinguish between individuals with the same name. You must also provide a reasonable description of the record, specify the information being contested, the corrective action sought, and the reasons for requesting the correction, along with supporting information to show how the record is inaccurate, incomplete, untimely, or irrelevant. Requests by an individual to amend a record must meet the requirements of the regulations in 34 CFR 5b.7.

NOTIFICATION PROCEDURES:

If you wish to determine whether a record exists about you in the system of records, provide the System Manager with necessary particulars such as your name, date of birth, SSN, and any other identifying information requested by the Department while processing the request to distinguish between individuals with the same name. Your request must meet the requirements of the regulations in 34 CFR 5b.5, including proof of identity.

EXEMPTIONS PROMULGATED FOR THE SYSTEM:

None.

HISTORY:

The system of records entitled “Health Education Assistance Loan (HEAL) Program” (18-11-20) was previously maintained by the HHS, at which time it was entitled “Health Education Assistance On-Line Processing System (HOPS)” (09-15-0044). HHS last published that system of records in the Federal Register on February 1, 2010 (75 FR 5094-5097). The system was modified in the transfer from HHS to the Department. The Department published a revised system of records notice in the Federal Register on June 26, 2014 (79 FR 36299-36302), changing the name and numbering of the system of records to the “Health Education Assistance Loan (HEAL) program” (18-11-20). The Department published a notice of a modified system of records in the Federal Register on January 23, 2017 (82 FR 7807-7812) Through this notice, the Department modifies the January 23, 2017, notice of a modified system of records and republishes in full the HEAL program system of records notice in the required format found in OMB Circular No. A-108, issued on December 23, 2016.

[FR Doc. 2018-17512 Filed 8-13-18; 8:45 am]

BILLING CODE 4000-01-P